DEPARTMENT OF VETERANS AFFAIRS

Solicitation of Nomination for Appointment to the Advisory Committee on the Readjustment of Veterans

ACTION: Notice.

SUMMARY: The Department of Veterans Affairs (VA), Readjustment Counseling Service (RCS), is seeking nominations of qualified candidates to be considered for appointment as a member of the Advisory Committee on the Readjustment of Veterans (“the Committee”) for the 2020 membership cycle.

DATES: Nominations for membership on the Committee must be received by August 12, 2020, no later than 4:00 p.m., eastern standard time. Packages received after this time will not be considered for the current membership cycle.

ADDRESSES: All nomination packages should be sent to the VA Readjustment Counseling Service, by email (recommended) or mail. Please see contact information below: VA Readjustment Counseling Service (10RCS), Department of Veterans Affairs, 810 Vermont Ave. NW, Washington, DC 20420, VHA10RCSAction@va.gov.

FOR FURTHER INFORMATION CONTACT: Sherry Moravy and/or Richard Barbato, Readjustment Counseling Service (10RCS), Department of Veterans Affairs, 810 Vermont Ave. NW, Washington, DC 20420, Telephone 734-222-4319.

SUPPLEMENTARY INFORMATION: In carrying out the duties set forth, the Committee responsibilities include, but are not limited to providing a Congressionally-mandated report to the Secretary each year, which includes:

(1) An assessment of the needs of Veterans with respect to readjustment to civilian life;

(2) A review of the programs and activities of the Department designed to meet such needs; and

(3) Such recommendations (including recommendations for administrative and legislative action) as the Committee considers appropriate.

The Committee may also submit to the Secretary such other reports and recommendations as the Committee considers appropriate. Management and support services for the Committee are provided by the VA Readjustment Counseling Service (RCS).

Authority: The Committee was established in accordance with 38 U.S.C. 545 and operates under the provisions of the Federal Advisory Committee Act, as amended, 5 U.S.C. App. 2. In accordance with 38 U.S.C. 545, the Committee advises the Secretary on the provision by VA of benefits and services to assist Veterans in the readjustment to civilian life. In carrying out this duty, the Committee shall take into special account the needs of Veterans who served in combat theaters of operation. In accordance with the Statute and the Committee's current charter, the majority of the membership ship consist on non-Federal employees appointed by the Secretary from the general public, serving as special government employees.

The Secretary appoints Committee members and determines the length of terms in which the Committee members serve. A term of service for any member may not exceed 2 years. However, the Secretary can reappoint members for additional terms. Each year, there are several vacancies on the Committee, as members' terms expire.

Membership Criteria: The Committee is currently composed of 12 members. By statute, Committee consists of members appointed by the Secretary from the general public, including individuals who have demonstrated civic or professional achievement; and have experience with the provision of Veterans benefits and services by VA.

The membership will include: (1) Individuals from a wide variety of geographic areas and ethnic backgrounds; (2) individuals from Veterans service organizations; (3) individuals with combat experience; and (4) women.

In addition to the criteria above, VA seeks—

(1) diversity in professional and personal qualifications;

(2) experience in military service and military deployments (please identify Branch of Service and Rank);

(3) current work with Veterans;

(4) committee subject matter expertise; and

(5) experience working in large and complex organizations.

The Committee meets at least two times annually, which may include a site visit to a VA field location. In accordance with Federal Travel Regulation, VA will cover travel expenses—to include per diem—for all members of the Committee, for any travel associated with official Committee duties. A copy of the Committee's most resent charter and a list of the current membership can be found at https://www.va.gov/ADVISORY/Advisory_Committee_on_the_Readjusment_of_Veterans_Statutory.asp.

In accordance with recently revised guidance regarding the ban on lobbyists serving as members of advisory boards and commissions, Federally-registered lobbyists are prohibited from serving on Federal advisory committees in an individual capacity. Additional information regarding this issue can be found at www.federalregister.gov/articles/2014/08/13/2014-19140/revised-guidance-on-appointment-of-lobbyists-to-federal-advisory-committees-boardsand-commissions.

Requirements for Nomination Submission

Nomination packages (one nomination per nominator) must be typed (12-point font) and include: (1) A cover letter from the nominee, and (2) a current resume that is no more than four pages in length. The cover letter must summarize: The nominees' interest in serving on the committee and contributions she/he can make to the work of the committee; any relevant Veterans service activities she/he is currently engaged in; the military branch affiliation and timeframe of military service (if applicable). To promote inclusion and demographic balance of membership, please include as much information related to the nominee's race, national origin, disability status, or any other factors that may give the individual a diverse perspective on Veteran readjustment Veterans. Finally, the cover letter must include the nominee's complete contact information (name, address, email address, and phone number); and a statement confirming that she/he is not a Federally-registered lobbyist. The resume should show professional and/or work experience, and Veterans service involvement—especially service that involves combat Veterans' and Active Duty service members' issues. Self-nominations are acceptable. Any letters of nomination from organizations or other individuals must accompany the package, when it is submitted. Letters of nomination submitted without a complete nomination package will not be considered. Do not submit a package, without the nominee's consent or awareness.

The Department makes every effort to ensure that the membership of its advisory committees is fairly balanced, in terms of points of view represented. In the review process, consideration is given to nominees' potential to address the Committee's demographic needs (regional representation, race/ethnicity representation, professional expertise, war era service, gender, former enlisted or officer status, branch of service, etc.). Other considerations to promote a balanced membership include longevity of military service, significant deployment experience, ability to handle complex issues, experience running large organizations, and ability to contribute to the gender-specific health care and benefits needs of combat Veterans and Active Duty service members.

Nominations must state that the nominee is willing to serve as a member of the Committee and appears to have no conflict of interest that would preclude membership. An ethics review is conducted for each selected nominee.

Dated: June 26, 2020.
Jelessa M. Burney,
Federal Advisory Committee Management Officer.

[FR Doc. 2020-14153 Filed 6-30-20; 8:45 am]

BILLING CODE P